DEPARTMENT OF AGRICULTURE

Office of the Secretary

7 CFR Part 2

Revision of Delegations of Authority

Correction

In rule document 00-32405 beginning on page 82891, in the issue of Friday, December 29, 2000, make the following corrections:

On page 82891, in the first column, under the heading SUPPLEMENTARY INFORMATION:, in the 11th line, “Counsel” should read “Council”.

§ 2.25 [Corrected]

2. On page 82891, in the second column, §2.25, paragraph (a)(2), in the first line, “ is” should read “in”.

3. On page 82891, in the third column, §2.25, in paragraph (a)(6), in the seventh line, “injuries” should read “ inquiries”.

[FR Doc. C0-32405 Filed 1-26-01; 8:45 am]

BILLING CODE 1505-01-D

DEPARTMENT OF ENERGY

Federal Energy Regulatory Commission

[Docket No. RP00-177-004]

Maritimes & Northeast Pipeline, L.L.C.; Notice of Proposed Changes in FERC Gas Tariff

Correction

In notice document 01-526 beginning on page 1657 in the issue of Tuesday, January 9, 2001, the docket number is corrected to read as set forth above.

[FR Doc. C1-526 Filed 1-26-01; 8:45 am]

BILLING CODE 1505-01-D

DEPARTMENT OF ENERGY

Federal Energy Regulatory Commission

[Project No. 2195; Project No. 135]

North Fork Hydroelectric Project, Oak Grove hydroelectric Project, Portland General Electric Company, Portland, Oregon; Notice of Intent To Conduct Public Scoping Meetings

Correction

In notice document 00-33103 beginning on page 82331 in the issue of December 28, 2000, the Project Number is corrected to read as set forth above.

[FR Doc. C0-33103 Filed 1-26-01; 8:45 am]

BILLING CODE 1505-01-D

FEDERAL COMMUNICATIONS COMMISSION

47 CFR Parts 13, 20, 22, 24, 26, 27, 80, 87, 90, 95, 97, and 101

[WT Docket No. 00-230; FC 00-402]

Promoting Efficient Use of Spectrum Through Elimination of Barriers to the Development of Secondary Markets

Correction

In proposed rule document 00-32789 beginning on page 81475 in the issue of Tuesday, December 26, 2000 make the following correction:

On page 81475 in the third column, under the ÿ7E“DATES” heading, “March 9, 2001” should read “March 12, 2001”.

[FR Doc. C0-32789 Filed 1-26-01; 8:45 am]

BILLING CODE 1505-01-D

FEDERAL COMMUNICATIONS COMMISSION

47 CFR Part 73

[MM Docket No. 98-93; FCC 00-368]

1998 Biennial Regulatory Review-Streamlining of Radio Technical Rules

Correction

In rules document 00-32201 beginning on page 79773 in the issue of Wednesday, December 20, 2000, make the following correction:

§73.215 [Corrected]

On page 79778, in §73.215(e), in the table, in the first column, in the eighth line from the bottom, “C2 to C” should read “C2 to C0”.

[FR Doc. C0-32201 Filed 1-26-01; 8:45 am]

BILLING CODE 1505-01-D

DEPARTMENT OF THE INTERIOR

Bureau of Land Management

[AZ-020-00-1430-ES; AZA-31250]

Notice of Realty Action; Recreation and Public Purposes (R&PP) Act Classification; Arizona

Correction

In notice document 00-19872 beginning on page 48250 in the issue of Monday, August 7, 2000, make the following correction:

On page 48250, in the third column, in the last line of the land description, section 36 is corrected to read as follows:

“NE¼,E½NW¼”.

[FR Doc. C0-19872 Filed 1-26-01; 8:45 am]

BILLING CODE 1505-01-D

DEPARTMENT OF JUSTICE

8 CFR Part 3

[EOIR No. 127P; AG Order No. 2358-2001]

RIN 1125-AA29

Executive Office for Immigration Review; Section 212(c) Relief for Certain Aliens in Deportation Proceedings Before April 24, 1996

Correction

In rule document 01-1785 beginning on page 6436 in the issue of Monday, January 22, 2001, make the following correction:

§3.44 [Corrected]

On page 6445, in the third column, in §3.44, in paragraph (f), in the fifth line,ÿ7E the date “June 23, 2001” should read “July 23, 2001.”.

[FR Doc. C1-1785 Filed 1-26-01; 8:45 am]

BILLING CODE 1505-01-D

NUCLEAR REGULATORY COMMISSION

10 CFR Part 72

RIN 3150-AG54

List of Approved Spent Fuel Storage Casks: FuelSolutions Addition

Correction

In rule document 01-1172 beginning on page 3444 in the issue of Tuesday, January 16, 2001 make the following correction:

§72.214 [Corrected]

On page 3448, in the third column, in §72.214, under the heading “Certificate Expiration Date:”, the date “March 19, 2021” should read “February 15, 2021”.

[FR Doc. C1-1172 Filed 1-26-01; 8:45 am]

BILLING CODE 1505-01-D

SECURITIES AND EXCHANGE COMMISSION

[Release No. 34-43768; File No. SR-NASD-00-74]

Self-Regulatory Organizations; Notice of Filing and Order Granting Accelerated Approval on a Temporary Basis Until January 31, 2001 of Proposed Rule Change by National Association of Securities Dealers, Inc. Relating to EWN II Fees for Subscribers Who Are Not DASD Members

December 22, 2000.

Correction

In notice document 01-151 beginning on page 824 in the issue of Thursday, January 4, 2001, the date should read as set forth above.

[FR Doc. C1-151 Filed 1-26-01; 8:45 am]

BILLING CODE 1505-01-D

SECURITIES AND EXCHANGE COMMISSION

[Release No. 34-43763; File No. SR-NYSE-99-24]

Self-Regulatory Organizations; Order Approving a Proposed Rule Change and Notice of Filing and Order Granting Accelerated Approval of Amendment Nos. 1 and 2 Thereto by the New York Stock Exchange, Inc. Establishing XPress Orders and Quotes

Correction

In notice document 00-33264 beginning on page 83120 in the issue of Friday, December 29, 2000, make the following correction:

On page 83122, in the second column, under the heading “IV Solicitation of Comments”, in the last line “[insert date 21 days from the date of publication]” should read “January 18, 2001”.

[FR Doc. C0-33264 Filed 1-26-01; 8:45 am]

BILLING CODE 1505-01-D